DEPARTMENT OF ENERGY

Federal Energy Regulatory Commission

[Docket No. GT02-35-000, et al.,]

Tennessee Gas Pipeline Company, Northern Natural Gas Company, Standards for Business Practices of Interstate Natural Gas Pipelines; Notice of Redocketing of Filings

July 14, 2003.

Take notice that on June 16, 2003, the North American Energy Standards Board (NAESB) filed its Progress Report on Pipeline Capacity Creditworthiness Standards Development that was docketed in Docket No. RM96-1-000. All subsequent comments relating to this report, including those filed in Docket Nos. GT02-35-000 and GT02-38-000, are being docketed in Docket No. RM96-1-000. These include: North American Energy Standards Board Progress Report on Pipeline Capacity Creditworthiness Standards Development (filed May 23, 2003); the Comments of EnCana Marketing (USA) Inc. (filed June 24, 2003); Supplement to North American Energy Standards Board Progress Report on Pipeline Capacity Creditworthiness Standards Development (filed June 25, 2003); Motion to Intervene and Preliminary Comments of Midland Cogeneration Venture, LP (June 27, 2003); and Comments of the KeySpan Delivery Companies (filed July 3, 2003).

These filings are available for review at the Commission in the Public Reference Room or may be viewed on the Commission's Web site at http://www.ferc.gov using the “FERRIS” link, under Docket No. RM96-1-00. Enter the docket number excluding the last three digits in the docket number field to access the document. For Assistance, please contact FERC Online Support at FERCOnlineSupport@ferc.gov or toll-free at (866) 208-3676, or TTY, contact (202) 502-8659.

Magalie R. Salas,
Secretary.

[FR Doc. 03-18315 Filed 7-17-03; 8:45 am]

BILLING CODE 6717-01-P